DEPARTMENT OF LABOR

Employment and Training Administration

[TA-W-75,151; TA-W-75,151A]

Amended Certification Regarding Eligibility To Apply for Worker Adjustment Assistance

TA-W-75,151, Navistar Truck Development and Technology Center, A Subsidiary of Navistar International Corporation, Truck Division, Including All On-Site Leased Workers, 2911 Meyer Road, Fort Wayne, Indiana.

TA-W-75,151A, Navistar Truck Reliability Center, A Subsidiary of Navistar International Corporation, Truck Division, Including All On-Site Leased Workers, 3033 Wayne Trace, Fort Wayne, Indiana.

In accordance with Section 223 of the Trade Act of 1974, as amended (“Act”), 19 U.S.C. 2273, the Department of Labor (Department) issued a Certification of Eligibility to Apply for Worker Adjustment Assistance on October 20, 2011, applicable to workers of Navistar International Truck Development and Technology Center, a Subsidiary of Navistar International Corporation, Truck Division, 2911 Meyer Road, Fort Wayne, Indiana (TA-W-75,151) and Navistar Truck Reliability Center, a Subsidiary of Navistar International Corporation, Truck Division, 3033 Wayne Trace, Fort Wayne, Indiana (TA-W-75,151A). On July 13, 2012, the Department issued an amended certification applicable to TA-W-75,151.

Subsequent to the issuance of the amendment, the Department received multiple requests to include additional on-site leased worker groups to the certifications applicable to workers of the subject firm (TA-W-75,151 and TA-W-75,151A).

The intent of the Department's certification is to include all workers of the subject firm at the aforementioned locations, including all on-site leased workers, who were adversely affected by the subject firm's shift in the supply of services to a foreign country.

The amended notice applicable to TA-W-75,151 is hereby issued as follows:

“All workers of Navistar International Truck Development and Technology Center, a Subsidiary of Navistar International Corporation, Truck Division, including all on-site leased workers, 2911 Meyer Road, Fort Wayne, Indiana (TA-W-75,151) and Navistar Truck Reliability Center, a Subsidiary of Navistar International Corporation, Truck Division, including all on-site leased workers, 3033 Wayne Trace, Fort Wayne, Indiana (TA-W-75,151A), who became totally or partially separated from employment on or after January 30, 2010 through October 20, 2013, and all workers in the group threatened with total or partial separation from employment on the date of certification through two years from the date of certification, are eligible to apply for adjustment assistance under Chapter 2 of Title II of the Trade Act of 1974, as amended.”

Signed in Washington, DC, this 30th day of July 2012.
Del Min Amy Chen,
Certifying Officer, Office of Trade Adjustment Assistance.

[FR Doc. 2012-19462 Filed 8-8-12; 8:45 am]

BILLING CODE 4510-FN-P